DEPARTMENT OF AGRICULTURE

Forest Service

Siskiyou County Resource Advisory Committee

AGENCY: Forest Service, USDA.

ACTION: Notice of meeting.

SUMMARY: The Siskiyou County Resource Advisory Committee (RAC) will meet on July 15, 2002, in Yreka, California. The focus of this meeting will be to discuss the following topics: Approval of previous Meeting Minutes; second round of project proposals; outcome of the proponent assistance workshop held July 12th; County Supervisors' response to RAC presentation; CEQA/NEPA compliance requirements; merchantable materials sales; review of rating criteria and design for project evaluation; and a presentation on the noxious weed issue.

DATES: The meeting will be held July 15, 2002, from 4 p.m. to 7 p.m.

ADDRESSES: The meeting will be held at the Yreka High School Liberty, Preece Way, Yreka, California.

FOR FURTHER INFORMATION CONTACT: Nancy Gibson, Klamath National Forest USDA, 1312 Fairlane Road, Yreka, California, 96097, (530) 841-4412; E-MAIL ngibson@fs.fed.us

SUPPLEMENTARY INFORMATION: The meeting is open to the public. Public comment opportunity will be provided and individuals will have the opportunity to address the Committee at that time.

Dated: June 20, 2002.
Margaret J. Boland,
Forest Supervisor, Klamath National Forest.

[FR Doc. 02-16177 Filed 6-26-02; 8:45 am]

BILLING CODE 3410-11-M